DEPARTMENT OF THE INTERIOR

Bureau of Land Management

[LLNVC00000.L16100000.DR0000; 14-08807; MO# 4500080864]

Opportunity To Comment on Changes to the Nevada and California Greater Sage-Grouse Bi-State Distinct Population Segment Carson City Field Office Consolidated Resource Management Plan and the Tonopah Field Office Resource Management Plan Amendment, Nevada

AGENCY: Bureau of Land Management, Interior.

ACTION: Notice.

SUMMARY: The Bureau of Land Management (BLM) is soliciting comments on significant changes to the Proposed Plan as set forth in the Greater Sage-Grouse Bi-State Distinct Population Segment (BSSG) Forest Plan Amendment and Final Environmental Impact Statement (EIS), announced on February 13, 2015. Following consideration of any comments on these changes, the BLM intends to issue a Record of Decision (ROD) amending the Carson City Field Office Consolidated Resource Management Plan and the Tonopah Field Office Resource Management Plan.

DATES: Written comments on the changes to the Proposed Plan will be accepted until December 14, 2015.

ADDRESSES: You may submit comments related to the significant changes to the Proposed Plan by any of the following methods:

• Email: blm_nv_ccdowebmail@blm.gov.

• Fax: 775-885-6147.

• Mail: BLM Carson City District, Attn: Colleen Sievers, Project Manager, 5665 Morgan Mill Rd., Carson City, NV 89701.

FOR FURTHER INFORMATION CONTACT: Colleen Sievers, Project Manager, telephone: 775-885-6168; address: 5665 Morgan Mill Rd., Carson City, NV 89701; email: blm_nv_ccdowebmail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The United States Forest Service (USFS) was the lead agency for preparing the BSSG Forest Plan Amendment (Plan Amendment) and Final EIS. As part of that effort and based on the analysis in the Final EIS, the BLM, a cooperating agency, proposes to amend the Carson City Field Office Consolidated Resource Management Plan and the Tonopah Field Office Resource Management Plan. Following the release of the Proposed Plan and the conclusion of the protest process, the BLM identified changes and a clarification for the Proposed Plan as explained below and determined, pursuant to the applicable authorities (43 CFR 1610.2(f)(5) and 43 CFR 1610.5-1(b)), that public comment on those measures is necessary. The environmental consequences of the proposed changes and clarification have been analyzed as part of the Plan Amendment and Final EIS. After considering any comments on these changes, the BLM expects to issue a ROD amending the Carson City Field Office Consolidated Resource Management Plan and the Tonopah Field Office Resource Management Plan.

The Environmental Protection Agency (EPA) published the Notice of Availability (NOA) for the BSSG Forest Plan Amendment/Draft EIS in the Federal Register on August 23, 2013 (78 FR 52524), which initiated a 90-day comment period. An NOA for the BSSG Forest Plan Amendment/Revised Draft EIS was published by the EPA on July 11, 2014 (79 FR 40100), which initiated a second 90-day comment period. The EPA published the NOA for the BSSG Forest Plan Amendment and Final EIS in the Federal Register on February 13, 2015 (80 FR 8081), which initiated a 30-day BLM protest period and 60-day Governors consistency review period. The Plan Amendment and Final EIS identified the BLM Plan as the Proposed Plan. The BLM received three protest letters. In response to those protests and based on additional policy discussions, the BLM has determined that it will clarify and make changes to the Proposed Plan.

The clarification and changes include: (1) Identifying disturbance levels within BSSG habitat; (2) Adjusting buffers for tall structures near active or pending leks; (3) Adding a restriction for new high-power transmission lines; and (4) Changing on-the-ground management for habitat connectivity. This notice identifies those clarifications and changes and initiates a 30-day public comment period (43 CFR 1610.2(f)(5) and 43 CFR 1610.5-1(b)).

Habitat Disturbance—Proposed Change

The BLM is changing the Proposed Plan, as it was set forth in the Plan Amendment and Final EIS, to set a total anthropogenic disturbance of no more than 3 percent of the total BSSG habitat on Federal lands within the Bodie Mountain/Grant, Desert Creek/Fales, and White Mountains population management unit boundaries (C-Wild-S-04), and a total anthropogenic disturbance of no more than 1.5 percent of the total BSSG habitat on Federal lands within the Pine Nut Mountains population management unit (PMU) boundaries (C-Wild-S-05), due to higher presence of risk factors in the PMU as analyzed under Final EIS Alternative C. This change is being made in response to issues raised during the protest period and based on additional policy discussions.

Concerns were raised by the public that the BLM action was not adequate to protect BSSG and its habitat. Disturbance levels identified in the Final EIS will require site-specific project mitigation to insure no unmitigated net loss of habitat. This requires assessing habitat availability at the landscape scale.

Tall Structure Buffer—Proposed Change

As part of the protest process, the BLM found that it needed to correct an error in the Proposed Plan Amendment and Final EIS. The BLM found that it should have identified the buffer distance for tall structures as 4 miles from active or pending leks. This is consistent with management prescriptions proposed by the USFS. Specifically, the BLM proposes to adopt the action from Alternative C which states that tall structures, which could serve as predator perches, will not be authorized within 4 miles of an active or pending lek (C-LUSU-S-04). The 4-mile lek buffer accords with other prescriptions of surface disturbance in sage-grouse habitat and is consistent with best science available.

High-Voltage (≥120kV) Transmission Line—Proposed Change

The BLM is designating exclusion areas for new high-power (≥120kV) transmission lines in BSSG habitat. Specifically, new high-power (≥120kV) transmission line corridors, rights-of-way, facilities, or construction areas in habitat (outside of existing corridors) will not be authorized (C-Min-S-09). This change is being made in response to issues raised during the protest period and based on additional policy discussions and was analyzed under Alternative C in the EIS.

Connectivity Habitat—Proposed Change

The BLM is clarifying language from Alternative C to provide for management of connectivity habitat. The BSSG landscape is fragmented by areas of agriculture and urbanization, as well as areas of naturally occurring and encroaching pinyon-juniper vegetation. Sage-grouse habitats within and between PMU are often separated by stretches of unsuitable areas that may inhibit sage-grouse movements across the landscape. Alternative C provides a limited amount of management direction to maintain or enhance suitability of connective area. Alternative C includes a goal about habitat and movement and an objective of improving degraded habitat, including areas with conifer encroachment (i.e., pinyon-juniper). Actions and Best Management Practices relating to connectivity apply primarily to mineral uses. Alternative C states that where valid existing rights exist, in connective habitat areas, vegetation characteristics suitable to sage-grouse should be maintained to the extent technically feasible (C-Min-S-01). In addition, Alternative C provides additional direction not specific to connectivity which states, “Vegetation treatments and post-disturbance restoration should seed and/or transplant sagebrush to restore large patches of sagebrush cover and connect existing patches” (C-Wild-S-02). Given the fragmented nature of the bi-state landscape and the level of apparent isolation of subpopulations, additional management direction for connective habitat area is necessary to facilitate sage-grouse movement, reduce isolation, and increase genetic interchange between subpopulations. This change is being made in response to policy discussions.

Please note that public comments and information submitted including names, street addresses, and email addresses of persons who submit comments will be available for public review and disclosure at the above address during regular business hours (7:30 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

John F. Ruhs,
Acting State Director, Nevada.

[FR Doc. 2015-28876 Filed 11-12-15; 8:45 am]

BILLING CODE 4310-HC-P